DEPARTMENT OF LABOR

Employment and Training Administration

[TA-W-53,179]

Kulicke & Soffa Industries, Inc., Willow Grove, PA; Notice of Termination of Investigation

Pursuant to section 221 of the Trade Act of 1974, an investigation was initiated on October 8, 2003 in response to a petition filed by a company official on behalf of workers at Kulicke & Soffa Industries, Inc., Willow Grove, Pennsylvania.

The petitioner has requested that the petition be withdrawn. Consequently, further investigation in this case would serve no purpose, and the investigation has been terminated.

Signed in Washington, DC this 3rd day of November, 2003.
Linda G. Poole,
Certifying Officer, Division of Trade Adjustment Assistance.

[FR Doc. 03-31528 Filed 12-22-03; 8:45 am]

BILLING CODE 4510-30-P